DEPARTMENT OF THE INTERIOR

National Park Service

[NPS-WASO-NRNHL-20925; PPWOCRADI0, PCU00RP14.R50000]

National Register of Historic Places; Notification of Pending Nominations and Related Actions

AGENCY: National Park Service, Interior.

ACTION: Notice.

SUMMARY: The National Park Service is soliciting comments on the significance of properties nominated before April 16, 2016, for listing or related actions in the National Register of Historic Places.

DATES: Comments should be submitted by June 3, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before April 16, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

FLORIDA

St. Johns County

Menendez Encampment Site, 21 Magnolia St., St. Augustine, 16000295.

IOWA

Carroll County

Manning Water Tower, 620 3rd St., Manning, 16000296.

LOUISIANA

Claiborne Parish

Friendship CME Church, 1055 Friendship Rd., Lisbon, 16000297.

Orleans Parish

Governor House Motor Hotel, The, 1630 Canal St., New Orleans, 16000298.

ODECO Building, 1600 Canal St., New Orleans, 16000300.

Plaquemines Parish

Lincoln, George, House, 30763 Parish Hwy. 11, Nairn, 16000301.

Rapides Parish

Chickama, 687 Chickamaw Rd., Lecompte, 16000302.

St. Mary Parish

Patterson Commercial Historic District, 1106, 1110, 1107, 1109 Main St., Patterson, 16000303.

MASSACHUSETTS

Berkshire County

Frelinghuysen Morris House and Studio, 92 Hawthorne St., 159 West St., Stockbridge, 16000304.

MISSOURI

Cole County

Garnett Farm Historic District, 7119 MO 179, Centertown, 16000305.

NEW YORK

Dutchess County

Beckwith, Walter, House, 482 Jameson Hill Rd., Stanford, 16000306.

Orange County

Bodine's Tavern, 2 Bodine Tavern Rd., Montgomery, 16000307.

Suffolk County

Downs House and Farm, 5793 Sound Ave., Riverhead, 16000308.

NORTH CAROLINA

Forsyth County

Hanes Hosiery Mill—Ivy Avenue Plant, 1245 & 1325 Ivy Ave., Winston-Salem, 16000309.

PENNSYLVANIA

Chester County

Carver Court, Foundry St. & Brooks Ln., Cain Township, 16000310.

SOUTH CAROLINA

Sumter County

Poinsett State Park Historic District, (South Carolina State Parks MPS), 6660 Poinsett Park Rd., Wedgefield, 16000311.

WEST VIRGINIA

Fayette County

Soldiers and Sailors Memorial Building, 100 N. Court St., Fayetteville, 16000312.

Hampshire County

Brill Octagon House, The, Capon Springs & McIlwee Rds., Capon Springs, 16000313.

Pin Oak Fountain, WV 29 & Falconwood Rd., Pin Oak, 16000314.

Roane County

Spencer Presbyterian Church, 408 Market St., Spencer, 16000315.

Authority: 60.13 of 36 CFR part 60.

Dated: April 21, 2016.
J. Paul Loether,
Chief, National Register of Historic Places/National Historic Landmarks Program.

[FR Doc. 2016-11780 Filed 5-18-16; 8:45 am]

BILLING CODE 4312-51-P